DEPARTMENT OF THE INTERIOR

Bureau of Land Management

[LLWO350000.L14300000.PN0000]

Extension of Approval of Information Collection, OMB Control Number 1004-0009

AGENCY: Bureau of Land Management, Interior.

ACTION: 60-Day Notice and Request for Comments.

SUMMARY: In compliance with the Paperwork Reduction Act of 1995, the Bureau of Land Management (BLM) is announcing its intention to request approval to continue the collection of information from State and local governments and private citizens in applications to use, occupy, or develop public lands administered by the BLM. This information collection activity was previously approved by the Office of Management and Budget (OMB), and was assigned control number 1004-0009.

DATES: Submit comments on the proposed information collection by October 4, 2010.

ADDRESSES: Comments may be mailed to U.S. Department of the Interior, Bureau of Land Management, Mail Stop 401-LS, 1849 C St., NW., Washington, DC 20240. Comments may also be submitted electronically to Jean_Sonneman@blm.gov or by fax to Jean Sonneman at 202-912-7109. Please attach “Attn: 1004-0019” to any form of comment.

FOR FURTHER INFORMATION CONTACT: To receive a copy of the information collection request, contact Vanessa Engle, Division of Lands, Realty, and Cadastral Survey, at 202-912-7339. Persons who use a telecommunication device for the deaf (TDD) may call the Federal Information Relay Service (FIRS) at 1-800-877-8339, to leave a message for Ms. Engle.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8 (d) and 1320.12(a)). This notice identifies an information collection that the BLM will be submitting to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

Before including your address, telephone number, e-mail address, or other personal identifying information in your comment, be advised that your entire comment—including your personal identifying information—may be made publicly available at any time. While you can ask in your comment to withhold from public review your personal identifying information, we cannot guarantee that we will be able to do so.

The following information is provided for the information collection:

Title: Land Use Application and Permit (43 CFR Part 2920).

Forms:

• Form 2920-1, Land Use Application and Permit.

OMB Control Number: 1004-0009.

Abstract: Section 302 of the Federal Land Policy and Management Act of 1976 (FLPMA) (43 U.S.C. 1732) and regulations at 43 CFR part 2920 authorize the issuance of leases, permits, and easements for the use, occupancy, or development of public lands administered by the BLM. Respondents include individuals, private entities, and State or local governments. They use Form 2910-1 to apply for leases, permits, or easements, and the BLM uses the information collected on Form 2920-1 to determine whether or not to grant the applications.

A variety of land uses may be authorized under FLPMA Section 302 and 43 CFR part 2920: commercial filming, advertising displays, commercial or noncommercial croplands, apiaries, livestock holding or feeding areas not related to grazing permits and leases, harvesting of native or introduced species, temporary or permanent facilities for commercial purposes (other than mining claims), ski resorts, construction equipment storage sites, assembly yards, oil rig stacking sites, mining claim occupancy if the residential structures are not incidental to the mining operation, and water pipelines and well pumps related to irrigation and non-irrigation facilities. The complexity of the applications, and therefore the burdens to respondents, vary widely.

Frequency of Collection: On occasion.

Estimated Number and Description of Respondents: 519 applicants annually: 5 from individuals, 5 from State/local governments, and 509 from the private sector (499 applications from small entities, and 10 applications from large entities).

Estimated Reporting and Recordkeeping “Hour” Burden: The currently approved annual burden for this collection is 1709 hours: 5 hours for individuals, 5 hours for State and local government, and 1,699 hours for the private sector.

Jean Sonneman,
Bureau of Land Management, Acting Information Collection Clearance Officer, Bureau of Land Management.

[FR Doc. 2010-19058 Filed 8-2-10; 8:45 am]

BILLING CODE 4310-84-P